DEPARTMENT OF THE INTERIOR

National Park Service

[NPS-WASO-NAGPRA-11962; 2200-1100-665]

Notice of Inventory Completion: Arkansas State University Museum, Jonesboro, AR

AGENCY: National Park Service, Interior.

ACTION: Notice.

SUMMARY: The Arkansas State University Museum has completed an inventory of human remains and associated funerary objects, in consultation with the appropriate Indian tribes, and has determined that, pursuant to 25 U.S.C. 3001(2), there is a cultural affiliation between the human remains and associated funerary objects and a present-day Indian tribe. Representatives of any Indian tribe that believes itself to be culturally affiliated with the human remains and associated funerary objects may contact the Arkansas State University Museum. Repatriation of the human remains and associated funerary objects to the Indian tribe stated below may occur if no additional claimants come forward.

DATES: Representatives of any Indian tribe that believes it has a cultural affiliation with the human remains and associated funerary objects should contact the Arkansas State University Museum at the address below by February 25, 2013.

ADDRESSES: Dr. Marti Allen, Director, Arkansas State University Museum, P.O. Box 490, State University, Jonesboro, AR 72467, telephone (870) 972-2074.

SUPPLEMENTARY INFORMATION: Notice is here given in accordance with the Native American Graves Protection and Repatriation Act (NAGPRA), 25 U.S.C. 3003, of the completion of an inventory of human remains and associated funerary objects under the control of Arkansas State University Museum, Jonesboro, AR. The human remains and associated funerary objects were removed from Marion County, AR.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Arkansas State University Museum and Arkansas Archaeological Survey professional staff in consultation with representatives of the Quapaw Tribe of Indians and The Osage Nation.

History and Description of the Remains

Between 1961 and 1962, human remains representing, at minimum, 12 individuals were removed from a cave site on the Deep Valley Ranch, in Marion County, AR, by Dr. Eugene Wittlake of Arkansas State University. The remains were subsequently donated to the Arkansas State University Museum. No known individuals were identified. The 665 associated funerary objects are 3 Mississippian plain rim sherds; 19 Mississippian plain body sherds; 130 unworked animal bones; 4 charcoal fragments; 6 wood fragments; 425 small shells; 9 mussel shell fragments; 1 celt; 8 natural lithics; 1 chert core; 2 worked stones; 10 partial projectile points; 7 projectile points; 3 partial biface lithics; and 37 chert debitage pieces.

Excavation records indicate that 10 of the individuals were in single inhumations in quadrant 12, which measured 5 feet by 5 feet. All the objects found in this quadrant were determined to be associated funerary objects. Excavation records do not indicate the location of the burials belonging to the other two individuals. Historical evidence, material culture, and oral history indicate that this region is part of the traditional territory of The Osage Nation. The Osage were semi-nomadic people who lived and hunted in southwestern Missouri, northwestern Arkansas, southeast Kansas, and northeast Oklahoma. Marion County, AR, is located on land ceded by the Osage in an 1825 treaty.

Determinations Made by the Arkansas State University Museum

Officials of the Arkansas State University Museum have determined that:

• Pursuant to 25 U.S.C. 3001(9), the human remains described above represent the physical remains of a minimum of 12 individuals of Native American ancestry.

• Pursuant to 25 U.S.C. 3001(3)(A), the 665 objects described above are reasonably believed to have been placed with or near individual human remains at the time of death or later as part of the death rite or ceremony.

• Pursuant to 25 U.S.C. 3001(2), there is a relationship of shared group identity that can be reasonably traced between the Native American human remains and the associated funerary objects and The Osage Nation.

Additional Requestors and Disposition

Representatives of any other Indian tribe that believes itself to be culturally affiliated with the human remains should contact Dr. Marti Allen, Director, Arkansas State University Museum, P.O. Box 490, State University, Jonesboro, AR 72467, telephone (870) 972-2074, before February 25, 2013. Repatriation of the human remains and associated funerary objects to The Osage Nation may proceed after that date if no additional claimants come forward.

The Arkansas State University Museum is responsible for notifying the Quapaw Tribe of Indians and The Osage Nation that this notice has been published.

Dated: December 18, 2012.
David Tarler,
Acting Manager, National NAGPRA Program.

[FR Doc. 2013-01350 Filed 1-23-13; 8:45 am]

BILLING CODE 4312-50-P